INTERNATIONAL TRADE COMMISSION

[Investigation Nos. 701-TA-579-580 and 731-TA-1369-1372 (Review)]

Fine Denier Polyester Staple Fiber From China, India, South Korea, and Taiwan

Determinations

On the basis of the record ¹ developed in the subject five-year reviews, the United States International Trade Commission (“Commission”) determines, pursuant to the Tariff Act of 1930 (“the Act”), that revocation of the countervailing duty orders on fine denier polyester staple fiber (“fine denier PSF”) from China and India and the antidumping duty orders on fine denier PSF from China, India, South Korea, and Taiwan would be likely to lead to continuation or recurrence of material injury to an industry in the United States within a reasonably foreseeable time.

¹ The record is defined in § 207.2(f) of the Commission's Rules of Practice and Procedure (19 CFR 207.2(f)).

Background

The Commission instituted these reviews on February 1, 2023 (88 FR 6790) and determined on May 8, 2023 that it would conduct full reviews (88 FR 31006, May 15, 2023). Notice of the scheduling of the Commission's reviews and of a public hearing to be held in connection therewith was given by posting copies of the notice in the Office of the Secretary, U.S. International Trade Commission, Washington, DC, and by publishing the notice in the Federal Register on August 30, 2023 (88 FR 59940). The Commission conducted its hearing on January 23, 2023. All persons who requested the opportunity were permitted to participate.

The Commission made these determinations pursuant to section 751(c) of the Act (19 U.S.C. 1675(c)). It completed and filed its determinations in these reviews on April 1, 2024. The views of the Commission are contained in USITC Publication 5500 (April 2024), entitled Fine Denier Polyester Staple Fiber from China, India, South Korea, and Taiwan (Inv. Nos. 701-TA-579-580 and 731-TA-1369-1372 (Review).

By order of the Commission.
Issued: April 1, 2024.
Lisa Barton,
Secretary to the Commission.

[FR Doc. 2024-07212 Filed 4-4-24; 8:45 am]

BILLING CODE 7020-02-P